DEPARTMENT OF ENERGY

Federal Energy Regulatory Commission

Combined Notice of Filings #1

Take notice that the Commission received the following electric corporate filings:

Docket Numbers: EC22-41-000.

Applicants: Buckeye Plains Solar Project, LLC, Buckeye Plains II Solar Project, LLC, Pickaway County Solar Project, LLC, Pickaway County II Solar Project, LLC, Dominion Solar Projects VII, Inc.

Description: Joint Application for Authorization Under Section 203 of the Federal Power Act of Buckeye Plains Solar Project, LLC, et al.

Filed Date: 2/17/22.

Accession Number: 20220217-5135.

Comment Date: 5 p.m. ET 3/10/22.

Take notice that the Commission received the following exempt wholesale generator filings:

Docket Numbers: EG22-56-000.

Applicants: Corazon Energy Services, LLC.

Description: Notice of Self-Certification of Exempt Wholesale Generator of Corazon Energy Services, LLC.

Filed Date: 2/17/22.

Accession Number: 20220217-5144.

Comment Date: 5 p.m. ET 3/10/22.

Take notice that the Commission received the following electric rate filings:

Docket Numbers: ER10-2564-011; ER10-2600-011; ER10-2289-011; EL22-5-000.

Applicants: Tucson Electric Power Company, UniSource Energy Development Company, UNS Electric, Inc., Tucson Electric Power Company.

Description: Amendment to June 21, 2021 Notice of Non-Material Change in Status of Tucson Electric Power Company, et al.

Filed Date: 2/14/22.

Accession Number: 20220214-5277.

Comment Date: 5 p.m. ET 3/7/22.

Docket Numbers: ER10-2564-011; ER10-2600-011; ER10-2289-011; EL22-5-000.

Applicants: Tucson Electric Power Company, UniSource Energy Development Company, UNS Electric, Inc., Tucson Electric Power Company.

Description: Amendment to June 21, 2021 Notice of Non-Material Change in Status of Tucson Electric Power Company, et al.

Filed Date: 2/15/22,

Accession Number: 20220215-5239.

Comment Date: 5 p.m. ET 3/7/22.

Docket Numbers: ER22-516-002.

Applicants: Arizona Public Service Company.

Description: Tariff Amendment: Service Agreement No. 396 Amendment to be effective 11/29/2021.

Filed Date: 2/17/22.

Accession Number: 20220217-5096.

Comment Date: 5 p.m. ET 3/10/22.

Docket Numbers: ER22-1066-000.

Applicants: Southern California Edison Company.

Description: Tariff Amendment: Notice of Cancellation EDP Ltr Agreement SCE and VESI 12 LLC SA No. 1133 to be effective 4/19/2022.

Filed Date: 2/17/22.

Accession Number: 20220217-5003.

Comment Date: 5 p.m. ET 3/10/22.

Docket Numbers: ER22-1067-000.

Applicants: Midcontinent Independent System Operator, Inc.

Description: § 205(d) Rate Filing: 2022-02-17_SA 3500_METC-Calhoun County Solar 1st Rev GIA (J857) to be effective 2/7/2022.

Filed Date: 2/17/22.

Accession Number: 20220217-5052.

Comment Date: 5 p.m. ET 3/10/22.

Docket Numbers: ER22-1068-000.

Applicants: Tri-State Generation and Transmission Association, Inc.

Description: § 205(d) Rate Filing: Amendment to Service Agreement No. 891 to be effective 1/19/2022.

Filed Date: 2/17/22.

Accession Number: 20220217-5056.

Comment Date: 5 p.m. ET 3/10/22.

Docket Numbers: ER22-1069-000.

Applicants: Southwest Power Pool, Inc.

Description: § 205(d) Rate Filing: Bylaws Revisions to Remove Requirement that Chair of the SPP Board Serve on SPC to be effective 4/19/2022.

Filed Date: 2/17/22.

Accession Number: 20220217-5057.

Comment Date: 5 p.m. ET 3/10/22,

Docket Numbers: ER22-1070-000.

Applicants: California Independent System Operator Corporation.

Description: § 205(d) Rate Filing: 2022-02-17 EIM Implementation Agreement Cancellation-Public Service of Colorado to be effective 4/19/2022.

Filed Date: 2/17/22.

Accession Number: 20220217-5064.

Comment Date: 5 p.m. ET 3/10/22.

Docket Numbers: ER22-1071-000.

Applicants: Southwest Power Pool, Inc.

Description: § 205(d) Rate Filing: Revisions to Bylaws Preamble to Incorporate the SPP Value Proposition to be effective 4/19/2022.

Filed Date: 2/17/22.

Accession Number: 20220217-5074.

Comment Date: 5 p.m. ET 3/10/22.

Docket Numbers: ER22-1072-000.

Applicants: New York Independent System Operator, Inc., Niagara Mohawk Power Corporation.

Description: § 205(d) Rate Filing: New York Independent System Operator, Inc. submits tariff filing per 35.13(a)(2)(iii: Joint 205 filing unexecuted LGIA among NYISO, NMPC, East Point (SA 2683) to be effective 2/18/2022.

Filed Date: 2/17/22.

Accession Number: 20220217-5095.

Comment Date: 5 p.m. ET 3/10/22.

Docket Numbers: ER22-1073-000.

Applicants: Niagara Mohawk Power Corporation, New York Independent System Operator, Inc.

Description: § 205(d) Rate Filing: Niagara Mohawk Power Corporation submits tariff filing per 35.13(a)(2)(iii: 205 filing among NYISO, NMPC, High River unexecuted LGIA (SA 2682) to be effective 2/18/2022.

Filed Date: 2/17/22.

Accession Number: 20220217-5098.

Comment Date: 5 p.m. ET 3/10/22.

Docket Numbers: ER22-1074-000.

Applicants: PJM Interconnection, L.L.C.

Description: § 205(d) Rate Filing: Second Revised ISA, SA No. 1767; Queue No. AB2-102 to be effective 1/19/2022.

Filed Date: 2/17/22.

Accession Number: 20220217-5133.

Comment Date: 5 p.m. ET 3/10/22.

Docket Numbers: ER22-1075-000.

Applicants: Midcontinent Independent System Operator, Inc.

Description: § 205(d) Rate Filing: 2022-02-17_SA 3781 Ameren-Pana Solar FSA (J912) to be effective 4/19/2022.

Filed Date: 2/17/22.

Accession Number: 20220217-5142.

Comment Date: 5 p.m. ET 3/10/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2022.
Debbie-Anne A. Reese,
Deputy Secretary.

[FR Doc. 2022-03909 Filed 2-23-22; 8:45 am]

BILLING CODE 6717-01-P